DEPARTMENT OF THE TREASURY

Submission for OMB Review; Comment Request

May 19, 2003.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 26, 2003 to be assured of consideration.

Internal Revenue Service (IRS)

OMB Number: 1545-1086.

Form Number: IRS Form 8725.

Type of Review: Revision.

Title: Excise Tax on Greenmail.

Description: Form 8725 is used by persons who receive “greenmail” to compute and pay the excise tax paid on greenmail imposed under section 5881. The IRS uses the information to verify that the correct amount of tax has been reported.

Respondents: Business or other for-profit.

Estimated Number of Respondents/Recordkeepers: 12.

Estimated Burden Hours Per Respondent/Recordkeeper:

Recordkeeping—5 hr., 30 min.

Learning about the law or the form—1 hr., 0 min.

Preparing and sending the form to the IRS—1 hr., 7 min.

Frequency of Response: On occasion.

Estimated Total Reporting/Recordkeeping Burden: 92 hours.

OMB Number: 1545-1504.

Form Number: IRS Form 911.

Type of Review: Extension.

Title: Application for Taxpayer Assistance Order (ATAO).

Description: This form is used by taxpayers to apply for relief from a significant hardship which may have already occurred or is about to occur if the IRS takes or fails to take certain actions. This form is submitted to the IRS Taxpayer Advocate Office in the state or city where the taxpayer lives.

Respondents: Individuals or households, Business or other for-profit, Not-for-profit institutions, Farms, State, Local or Tribal Government.

Estimated Number of Respondents: 93,000.

Estimated Burden Hours Per Respondent: 30 minutes.

Frequency of Response: On occasion.

Estimated Total Reporting Burden: 46,500 hours.

Clearance Officer: Glenn Kirkland (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Lois K. Holland,
Departmental Reports, Management Officer.

[FR Doc. 03-13159 Filed 5-23-03; 8:45 am]

BILLING CODE 4830-01-P